DEPARTMENT OF STATE

[Public Notice 9107]

60-Day Notice of Proposed Information Collection: Statement of Claim Related to Deportation During the Holocaust

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 22, 2015.

ADDRESSES: You may submit comments by any of the following methods:

• Web: Persons with access to the Internet may comment on this notice by going to www.Regulations.gov. You can search for the document by entering “Docket Number: DOS-2015-0018 in the Search field. Then click the “Comment Now” button and complete the comment form.

• Email: kottmyeram@state.gov.

• By mail: Office of the Assistant Legal Adviser for Management, ATTN: Deportation Claim Form, Room 4325, 2201 C Street NW., Washington, DC 20520.

You must include the DS form number, information collection title, and the OMB control number (if applicable) in any correspondence.

FOR FURTHER INFORMATION CONTACT: Direct requests for additional information regarding the collection listed in this notice, including requests for copies of the proposed collection instrument and supporting documents, to Alice Kottmyer, Office of the Legal Adviser for Management, who may be reached on 202-647-2318 or kottmyeram@state.gov.

SUPPLEMENTARY INFORMATION:

• Title of Information Collection: Statement of Claim Related to Deportation During the Holocaust.

• OMB Control Number: None.

• Type of Request: New collection.

• Originating Office: Office of the Legal Adviser, Department of State.

• Form Number: DS-7713, Statement of Claim.

• Respondents: Individuals who were harmed as a result of deportation from France during the Holocaust by SNCF, the French national rail carrier.

• Estimated Number of Respondents: 2,000.

• Estimated Number of Responses: 2,000.

• Average Time per Response: 3 hours per response.

• Total Estimated Burden Time: 6,000 hours.

• Frequency: Once per respondent.

• Obligation to Respond: Required to obtain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: This collection will implement the Agreement Between the Government of the United States of America and the Government of France to Address Claims Related to Deportation During the Holocaust, signed on December 8, 2014. Upon final approval by the French government, the agreement will provide for the transfer of $60 million from France to the United States, to compensate eligible claimants for harms suffered as the result of deportation from France during the Holocaust by SNCF, the French national rail carrier. In exchange for a lump sum, which the United States would use to compensate eligible claimants, the United States would undertake a commitment to prevent the prosecution of deportation-related claims in U.S. courts by recognizing and protecting France's and SNCF's sovereign immunity for such claims.

Methodology: The information will be collected on a form, the DS-7713, Statement of Claim, which can be submitted by mail or fax.

Dated: April 16, 2015.
Alicia A. Frechette,
Executive Director, Office of the Legal Adviser, Department of State.

[FR Doc. 2015-09377 Filed 4-21-15; 8:45 am]

BILLING CODE 4710-08-P